DEPARTMENT OF HEALTH AND HUMAN SERVICES

Centers for Disease Control and Prevention

[60Day-02-52]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 498-1210.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Seleda Perryman, CDC Assistant Reports Clearance Officer, 1600 Clifton Road, MS-D24, Atlanta, GA 30333. Written comments should be received within 60 days of this notice.

Proposed Project

State Surveys on Intimate Partner Violence (IPV) and Sexual Violence (SV)—New—National Center for Injury Prevention and Control (NCIPC), Centers for Disease Control and Prevention (CDC).

Violence against women has become a major public health issue in the nation. It is the leading cause of injury for women between the ages of 18 and 44. The National Violence Against Women Survey, conducted November 1995 to May 1996, estimates that approximately 1.9 million women are physically assaulted annually in this country by an intimate partner (e.g., current of former husband, cohabiting partner, boyfriend or date). The 1994 National Crime Victimization Survey estimates that over 432,000 rapes or sexual assaults were perpetrated against U.S. females, age 12 years and older. The National Center for Injury Control and Prevention (NCIPC) has recognized intimate partner violence (IPV) and sexual violence (SV) as public health problems or several years. Survey data are the most common data used to determine incidence and prevalence rates, risk and resiliency factors and consequences (e.g., physical injuries, psychological trauma) or IPV and SV. The Department of Justice (DOJ) has compiled a number of one-time looks at violence against women from a variety of perspectives, primarily provided by the criminal justice system, which counts only those cases that are reported.

There is a need for collection of standardized data on a consistent and continual basis, at the state and community levels in order to target limited resources towards populations in greatest need of prevention and intervention programs and services. As a result, the Centers for Disease Control and Prevention (CDC) plans to develop and pilot test two surveys on IPV and SV for possible inclusion in the Behavioral Risk Factor Surveillance System (BRFSS). The surveys will be administered to non-institutionalized women and men, 18 years of age and older. The pilot test will be conducted through a computer-assisted telephone interviewing system, using a sample of women and men randomly selected from six states. The overall benefit of this pilot is to increase knowledge regarding the magnitude and scope of violence against women and men in the U.S. Ultimately, the CDC intends to establish an on-going data collection system for monitoring IPV and SV at the state level.

The goals of the project are to: (1) Determine the questions' utility, participant reactions, and length of surveys; and (2) compile and disseminate the results of the pilot test and prepare a report for submission to the BRFSS coordinators for consideration for inclusion as an optional module for FY 2003. There is no cost to respondents.

Survey (IPV/SV) | Type of respondent | Number of respondents/ survey | Number of responses/ respondent | Avg. burden/ responses (in hours) | Total burden hours
State 1 | Female/Male | 2400 | 1 | 30/60 | 1,200
State 2 | Female/Male | 2400 | 1 | 30/60 | 1,200
State 3 | Female/Male | 2400 | 1 | 30/60 | 1,200
State 4 | Female/Male | 2400 | 1 | 30/60 | 1,200
State 5 | Female/Male | 2400 | 1 | 30/60 | 1,200
State 6 | Female/Male | 2400 | 1 | 30/60 | 1,200
Total |  |  |  |  | 7,200

Dated: May 2, 2002.
Nancy E. Cheal,
Acting Associate Director for Policy, Planning and Evaluation, Centers for Disease Control and Prevention.

[FR Doc. 02-11830 Filed 5-10-02; 8:45 am]

BILLING CODE 4163-18-P